DEPARTMENT OF COMMERCE

Minority Business Development Agency

Notice of Deadline Extension To Receive Nominations for the National Advisory Council on Minority Business Enterprise

AGENCY: Minority Business Development Agency, Commerce.

ACTION: Notice.

SUMMARY: The Minority Business Development Agency solicited nominations for individuals to serve as members of the National Advisory Council for Minority Business Enterprise pursuant to a Federal Register notice published on March 29, 2010 (75 FR 15413). The March 29, 2010 notice provided that all applications must be received by the Minority Business Development Agency, U.S. Department of Commerce, by 5 p.m. Eastern Daylight Time (EDT) on May 3, 2010. This notice extends the nomination period to May 10, 2010 at 5 p.m. (EDT), in order to provide the public with additional time to submit nominations. The requirements for submitting nominations and the evaluation criteria for selecting members contained in the March 29, 2010 notice shall continue to apply in their entirety and, for convenience, are being republished in this notice. Persons who have previously submitted nominations remain under consideration and do not need to resubmit their nomination materials, although they may amend or revise such nomination materials on or before the extended closing date of May 10, 2010. The purpose of the NACMBE is to advise the Secretary of Commerce (Secretary) on key issues pertaining to the growth and competitiveness of the nation's Minority Business Enterprises (MBEs).

DATES: Complete nomination packages for NACMBE membership must be received by the Department of Commerce on or before May 10, 2010 at 5 p.m. (EDT).

ADDRESSES: Nomination packages may be submitted through the mail or may be submitted electronically. Interested persons are encouraged to submit nominations electronically. The deadline is the same for nominations submitted through the mail and for nominations submitted electronically.

1. Submission by Mail: Nominations sent by mail should be addressed to the U.S. Department of Commerce, Minority Business Development Agency, Office of Legislative, Education and Intergovernmental Affairs, Attn: Stephen Boykin, 1401 Constitution Avenue, NW., Room 5063, Washington, DC 20230. Applicants are advised that the Department of Commerce's receipt of mail sent via the United States Postal Service may be substantially delayed or suspended in delivery due to security measures. Applicants may therefore wish to use a guaranteed overnight delivery service to ensure nomination packages are received by the Department of Commerce by the deadline set forth in this notice.

2. Electronic Submission: Nomination sent electronically should be addressed to: NACMBEnominations@mbda.gov. Please include “NACMBE Nomination” in the title of the e-mail.

FOR FURTHER INFORMATION CONTACT: Stephen Boykin, MBDA Office of Legislative, Education and Intergovernmental Affairs, at (202) 482-1712 or by e-mail at: NACMBEnominations@mbda.gov.

SUPPLEMENTARY INFORMATION:

Background: Pursuant to Executive Order 11625, as amended, the Department of Commerce, through the Minority Business Development Agency (MBDA), is charged with promoting the growth and competitiveness of the nation's minority business enterprise. NACMBE is established in the Department of Commerce as a discretionary advisory committee in accordance with the provisions of the Federal Advisory Committee Act, as amended, 5 U.S.C. App. 2, and with the concurrence of the General Services Administration. The NACMBE will be administered primarily by MBDA.

Although MBDA has received many applications and is still considering all applications received to date, the Agency is seeking a broader applicant pool. By extending the application period, the Agency also hopes to have a broader applicant pool to reflect greater ethnic, gender, and industry diversity. The requirements for submitting nominations and the criteria for selecting members contained in the March 29, 2010 notice to continue to apply in their entirety and are republished herein for convenience. Persons who have previously submitted nominations remain under consideration and do not need to resubmit their nomination materials, although they may amend such nomination materials on or before the extended closing date of May 10, 2010.

Objectives and Scope of Activities: NACMBE will advise the Secretary on key issues pertaining to the growth and competitiveness of the nation's MBEs, as defined in Executive Order 11625, as amended, and 15 CFR 1400.1. NACMBE will provide advice and recommendations on a broad range of policy issues that affect minority businesses and their ability to successfully access the domestic and global marketplace. These policy issues may include, but are not limited to:

• Methods for increasing jobs in the health care, manufacturing, technology, and “green” industries;

• Global and domestic barriers and impediments;

• Global and domestic business opportunities;

• MBE capacity building;

• Institutionalizing global business curriculums at colleges and universities and Facilitating the entry of MBEs into such programs;

• Identifying and leveraging pools of capital for MBEs;

• Methods for creating high value loan pools geared toward MBEs with size, scale and capacity;

• Strategies for collaboration amongst minority chambers, trade associations and nongovernmental organizations;

• Accuracy, availability and frequency of economic data concerning minority businesses;

• Methods for increasing global transactions with entities such as but not limited to the Export-Import Bank, OPIC and the IMF; and

• Requirements for a uniform and reciprocal MBE certification program.

The advice and recommendations provided by NACMBE may take the form of one or more written reports. NACMBE will also serve as a vehicle for an ongoing dialogue with the MBE community and with other stakeholders.

Membership: NACMBE shall be composed of not more than 25 members. The NACMBE members shall be distinguished individuals from the nonfederal sector appointed by the Secretary. The members shall be recognized leaders in their respective fields of endeavor and shall possess the necessary knowledge and experience to provide advice and recommendations on a broad range of policy issues that impact the ability of MBEs to successfully participate in the domestic and global marketplace.

NACMBE members shall be appointed as Special Government Employees for a two-year term and shall serve at the pleasure of the Secretary. Members may be re-appointed to additional two-year terms, without limitation. The Secretary may designate a member or members to serve as the Chairperson or Vice-Chairperson(s) of NACMBE. The Chairperson or Vice-Chairperson(s) shall serve at the pleasure of the Secretary.

NACMBE members will serve without compensation, but will be allowed reimbursement for reasonable travel expenses, including a per diem in lieu of subsistence, as authorized by 5 U.S.C. 5703, as amended, for persons serving intermittently in Federal government service. NACMBE members will serve in a solely advisory capacity.

Eligibility. In addition to the above criterion, eligibility for NACMBE membership is limited to U.S. citizens who are not full-time employees of the Federal Government, are not registered with the U.S. Department of Justice under the Foreign Agents Registration Act and are not federally-registered lobbyists pursuant to the Lobbying Disclosure Act of 1995, as amended, at the time of appointment to the NACMBE.

Nomination Procedures and Selection of Members: The Department of Commerce is accepting nominations for NACMBE membership for the upcoming 2-year charter term beginning in May 2010. Members shall serve until the NACMBE charter expires in May 2012, although members may be re-appointed by the Secretary without limitation. Nominees will be evaluated consistent with the factors specified in this notice and their ability to successfully carryout the goals of the NACMBE.

For consideration, a nominee must submit the following materials: (1) Resume, (2) personal statement of interest, including a summary of how the nominee's experience and expertise would support the NACMBE objectives; (3) an affirmative statement that the nominee is not required to register as a foreign agent under the Foreign Agents Registration Act of 1938, as amended, and (4) an affirmative statement that: (a) the nominee is not currently a federally-registered lobbyist and will not be a federally-registered lobbyist at the time of appointment and during his/her tenure as a NACMBE member, or (b) if the nominee is currently a federally-registered lobbyist, that the nominee will no longer be a federally-registered lobbyist at the time of appointment to the NACMBE and during his/her tenure as a NACMBE member. All nomination information should be provided in a single, complete package by the deadline specified in this notice. Nominations packages should be submitted by either mail or electronically, but not by both methods. Self-nominations will be accepted.

NACMBE members will be selected in accordance with applicable Department of Commerce guidelines and in a manner that ensures that NACMBE has a balanced membership. In this respect, the Secretary seeks to appoint members who represent a diversity of industries, ethnic backgrounds and geographical regions, and to the extent practicable, gender and persons with disabilities.

All appointments shall be made without discrimination on the basis of age, ethnicity, gender, disability, sexual orientation, or cultural, religious, or socioeconomic status. All appointments shall also be made without regard to political affiliations.

Dated: April 28, 2010.
David A. Hinson,
National Director, Minority Business Development Agency.

[FR Doc. 2010-10281 Filed 4-30-10; 8:45 am]

BILLING CODE P